DEPARTMENT OF ENERGY

Federal Energy Regulatory Commission

Notice of Effectiveness of Exempt Wholesale Generator Status

| Docket Nos.
Bayonne Energy Center, LLC | EG11-80-000
Long Island Solar Farm, LLC | EG11-81-000
Evergreen Gen Lead, LLC | EG11-82-000
Alta Wind IV Owner Lessor A | EG11-83-000
Alta Wind IV Owner Lessor B | EG11-84-000
Alta Wind IV Owner Lessor C | EG11-85-000
Alta Wind IV Owner Lessor D | EG11-86-000
Sherbino II Wind Farm LLC | EG11-87-000
Tanner Street Generation, LLC | EG11-88-000
Inversiones EólicasEolicas, S. de R. L. de C.V. | FC11-6-000

Take notice that during the month July 2011, the status of the above-captioned entities as Exempt Wholesale Generators or Foreign Utility Companies became effective by operation of the Commission's regulations. 18 CFR 366.7(a).

Dated: August 1, 2011.
Kimberly D. Bose,
Secretary.

[FR Doc. 2011-19938 Filed 8-4-11; 8:45 am]

BILLING CODE 6717-01-P